DEPARTMENT OF HOUSING AND URBAN DEVELOPMENT

[Docket No. FR-7058-N-01]

60-Day Notice of Proposed Information Collection: Medical Exception or Delay to COVID Vaccination Requirement; OMB Control No.: 2501-0037

AGENCY: Office of the Chief Human Capital Officer, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 22, 2022.

ADDRESSES: Interested persons are invited to submit comments regarding this proposal. Comments should refer to the proposal by name and/or OMB Control Number and should be sent to: Anna Guido, Management Analyst, QDAM, Department of Housing and Urban Development, 451 7th Street SW, Room 4176, Washington, DC 20410-5000; telephone 202-402-5535 (this is not a toll-free number) or email at anna.p.guido@hud.gov for a copy of the proposed forms or other available information. Persons with hearing or speech impairments may access this number through TTY by calling the toll-free Federal Relay Service at (800) 877-8339.

FOR FURTHER INFORMATION CONTACT: Anna Guido, Department of Housing and Urban Development, 451 7th Street SW, Room 4176, Washington, DC 20410; telephone 202-402-5535, (this is not a toll-free number). Persons with hearing or speech impairments may access this number via TTY by calling the Federal Relay Service at (800) 877-8339. Copies of available documents submitted to OMB may be obtained from Anna Guido.

SUPPLEMENTARY INFORMATION: This notice informs the public that HUD is seeking approval from OMB for the information collection described in Section A.

A. Overview of Information Collection

Title of Information Collection: Medical Exception or Delay to COVID Vaccination Requirement.

OMB Approval Number: OMB No. 2501-0037.

Type of Request: Extension of a currently approved collection.

Form Number: Form HUD-1001.

Description of the need for the information and proposed use: The Office of the Chief Human Capital Officer at the U.S. Department of Housing and Urban Development (HUD) is seeking approval to collect information from employees regarding requests for medical exceptions in accordance with the following authorities:

The Rehabilitation Act, 29 U.S.C. 791, and Title VII of the Civil Rights Act, 42 U.S.C. 2000e, as well as Executive Orders 13164 and 14043, and 29 CFR 1605 and 1614.

Collection of information regarding medical exceptions will enable the agency to render well-informed decisions in accordance with the federal authorities. Exceptions will be granted in limited circumstances and only where legally required.

Information collection | Number of respondents | Frequency of response | Responses per annum | Burden hour per response | Annual burden hours | Hourly cost per response | Annual cost
Disability Exemption Request COVID-19 | 200 | 1 | 200 | 1.5 | 300 | $49.68 | $14,904
GS-13, Step 1.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Lori A. Michalski,
Chief Human Capital Officer.

[FR Doc. 2022-01137 Filed 1-20-22; 8:45 am]

BILLING CODE 4210-67-P